DEPARTMENT OF LABOR

Pension and Welfare Benefits Administration Working Group on Long-Term Care: Issues and Solutions, Advisory Council on Employee Welfare and Pension Benefits Plans; Notice of Meeting

Pursuant to the authority contained in Section 512 of the Employee Retirement Income Security Act of 1974 (ERISA), 29 U.S.C. 1142, a public meeting will be held Thursday, June 1, 2000 of the Advisory Council on Employee Welfare and Pension Benefit Plans Working Group assigned to study Long-Term Care: Issues and Solutions

The session will take place in Room N-5437 A-D, U.S. Department of Labor Building, Second and Constitution Avenue NW, Washington, DC 20210. The purpose of the open meeting, which will run from 1 p.m. to approximately 3:30 p.m., is for working group members to take testimony focusing on long-term care indemnification in the marketplace today. Subtopics will be: Who purchases long-term policies? What services are typically included: What do they cost? What factors influences cost? How can policies be made more affordable to the consumer?

Members of the public are encouraged to file a written statement pertaining to the topic by submitting 20 copies on or before May 26, 2000 to Sharon Morrissey, Executive Secretary, ERISA Advisory Council, U.S. Department of Labor, room N-54677, 200 Constitution Avenue NW, Washington, DC 20210. Individuals or representatives of organizations wishing to address the Working Group should forward their request to the Executive Secretary or telephone (202) 219-8753. Oral presentations will be limited to 10 minutes, but an extended statement may be submitted for the record. Individuals with disabilities who need special accommodations should contact Sharon Morrissey by May 26 at the address indicated in this notice.

Organizations or individuals may also submit statements for the record without testifying. Twenty (20) copies of such statements should be sent to the Executive Secretary of the Advisory Council at the above address. Papers will be accepted and included in the record of the meeting if received on or before May 26.

Dated: Signed at Washington, DC this 12th day of May 2000.
Leslie Kramerich,
Acting Assistant Secretary, Pension and Welfare Benefits Administration.

[FR Doc. 00-12403 Filed 5-16-00; 8:45 am]

BILLING CODE 4510-29-M